DEPARTMENT OF AGRICULTURE

Food and Nutrition Service

Agency Information Collection Activities: Proposed Collection; Comments Request—Assessing the Child Nutrition State Administrative Expense Allocation Formula

AGENCY: Food and Nutrition Service (FNS), USDA.

ACTION: Notice.

SUMMARY: In accordance with the Paperwork Reduction Act of 1995, this notice invites the general public and other public agencies to comment on this proposed information collection. This collection is a new collection. The primary purpose of this study is to assess the effectiveness of the current formula used for State Administrative Expense (SAE) allocations for Child Nutrition Programs, identify and examine factors that influence State spending, and develop and test a range of possible alternatives to improve the SAE allocation formula.

DATES: Written comments must be received on or before August 7, 2017.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Jinee Burdg, MPP, RDN, LDN, Food and Nutrition Service, U.S. Department of Agriculture, 3101 Park Center Drive, Alexandria, VA 22302. Comments may also be submitted via fax to the attention of Jinee Burdg at 703-305-2744 or via email to Jinee.Burdg@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Alexandria, Virginia 22302.

All responses to this notice will be summarized and included in the request for Office of Management and Budget approval. All comments will be a matter of public record.

FOR FURTHER INFORMATION CONTACT: Requests for additional information or copies of this information collection should be directed to Jinee Burdg at 703-305-2744.

SUPPLEMENTARY INFORMATION:

Title: Assessing the Child Nutrition State Administrative Expense Allocation Formula.

Form Number: Not applicable.

OMB Number: Not Yet Assigned.

Expiration Date: Not Yet Determined.

Type of Request: New collection.

Abstract: USDA's Food and Nutrition Service (FNS) administers Child Nutrition Programs (CNPs) that provide healthy food to children including the National School Lunch Program (NSLP), School Breakfast Program (SBP), Child and Adult Care Food Program (CACFP), Special Milk Program (SMP), and the Food Distribution Program (FDP) for schools. State agencies are responsible for oversight and administration of the CNPs, including monitoring program operations and distributing Federal cash reimbursements and USDA Foods. CNPs are operated by a variety of local public and private providers that enter into agreements with State agencies, including school food authorities, local government agencies, nonprofit sponsoring organizations, child care centers, and adult care centers, among others.

State agencies that administer these CNPs include Education, Agriculture, Health, and Human Services and Social Services agencies. In some States, all of these CNPs are administered by one State agency (Education or Agriculture), while in other States two or more agencies administer these programs. For example, in several States the agency that administers the FDP for schools is different than the agency that administers the other CNPs.

States receive Child Nutrition State Administrative Expense (SAE) funds from the Federal government to help cover their administrative costs.¹ SAE funds are appropriated annually to USDA FNS under the authority of Section 7(a) of the Child Nutrition Act of 1966 (the Act).² The Act sets forth the total amount of funds available for SAE and a formula for allocating the majority of the funds to States—commonly referred to as the “nondiscretionary” allocation. It also provides USDA with authority to decide how to allocate remaining funds, i.e., the “discretionary” allocation. Program regulations at 7 CFR 235.4 include the statutory allocation formula as well as the formula USDA adopted for discretionary allocation of the funds. The Act also sets funds availability at two years, authorizes a reallocation process for unused funds, and requires a State plan for use of the funds, approved by FNS. SAE funds can be spent on reasonable, allocable, and necessary expenses incurred by the State including, but not limited to, salary and benefits, staff training, office equipment, support services, travel, monitoring and technical assistance activities. Funds that are not used by a State are returned for reallocation to other States; by law, no more than 20 percent of the initial allocation may be carried over by a State to the next fiscal year. Finally, the Act imposes a “State Funding Requirement,” under which States must contribute no less than their level of contribution in Fiscal Year 1977 to the SAE budget.

¹ Two other child nutrition programs—the Summer Food Service Program and the Fresh Fruit and Vegetable Program—also receive administrative funding from FNS. Because these funds are allocated separately from State Administrative Expense funds, these programs are not covered by this study.

² 42 U.S.C. 1776(a).

FNS is conducting a study, Assessing the Child Nutrition State Administrative Expense Allocation Formula, to assess the effectiveness of the current formula used for SAE allocations, identify and examine factors that influence State spending of SAE funds, and develop and test a range of possible alternatives to improve the SAE allocation formula. The study approach includes a review of historical spending and allocation patterns, case studies of 12 States, and an assessment of alternative formulas. In each State selected for case study, Directors and key staff from all State agencies that receive SAE funds will be included.

Affected Public: State, Local or Tribal government. The burden for all respondents is broken down in the table below.

Type of Respondents: State agency Directors and key State agency staff with responsibility for SAE funding.

Estimated Number of Respondents: The total estimated number of respondents is 88 (88 respondents and 0 non-respondents). This includes: 22 State Directors and 66 State agency key staff with responsibility for SAE funding.

Estimated Frequency of Response: The estimated frequency of response is 4.83 annually.

Estimated Total Annual Responses: The total estimated number of responses for data collection is 425.

Estimated Time per Respondent: The estimated time of response varies from 1 minute to 2 hours, depending on the respondent group and activity. The recruitment (electronic study notification letter) for each respondent type will take 5 minutes (0.083 hours), and scheduling interviews for each respondent type will take 10 minutes (0.167 hours). The pre-visit telephone interview with State Directors will take 45 minutes (0.750 hours). The in-depth on-site interview with State Directors and key staff will take 2 hours, each. Interview follow up will take 10 minutes (0.167 hours) among State Directors and key staff. Thank you emails to the State Directors and key staff will take 1 minute, each (0.017 hours). The average estimated time across all respondents is 32 minutes (0.528 hours).

Estimated Total Annual Burden on Respondents: The total public reporting burden for this collection of information is estimated at 224.5 hours (annually). The estimated burden for each type of respondent is provided in the table below.

Dated: May 23, 2017.
Jessica Shahin,
Acting Administrator, Food and Nutrition Service.

[FR Doc. 2017-11730 Filed 6-6-17; 8:45 am]

BILLING CODE 3410-30-P